POSTAL SERVICE

Board of Governors; Sunshine Act Meeting

DATES AND TIMES: September 9, 2020, at 9:00 a.m.

PLACE: Washington, DC

STATUS: Closed.

MATTERS TO BE CONSIDERED:

Wednesday, September 9, 2020, at 9:00 a.m.

1. Strategic Items.

2. Financial and Operational Matters.

3. Compensation and Personnel Matters.

4. Administrative Items.

GENERAL COUNSEL CERTIFICATION: The General Counsel of the United States Postal Service has certified that the meeting may be closed under the Government in the Sunshine Act.

CONTACT PERSON FOR MORE INFORMATION: Katherine Sigler, acting Secretary of the Board, U.S. Postal Service, 475 L'Enfant Plaza SW, Washington, DC 20260-1000. Telephone: (202) 268-4800.

Michael J. Elston,
Secretary.

[FR Doc. 2020-19447 Filed 8-28-20; 4:15 pm]

BILLING CODE 7710-12-P